DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Etowah County, Alabama, and Incorporated Areas
Docket No.: FEMA-B-7702
Coosa River | St. Clair County Line | +511 | City of Southside.
| Approximately 25,000 feet upstream of SR 77 Crossing | +516
Coosa River | Approximately 1,000 feet downstream of confluence with Big Cove Creek | +524 | Town of Hokes Bluff.
| Approximately 35,000 feet upstream of confluence with Big Cove Creek | +529
Greenway Creek | Hooke Street Crossing | +523 | City of Gadsden.
| Springfield Avenue Crossing | +530
Little Cove Creek | U.S. 278 Crossing | +524 | Town of Hokes Bluff.
| Approximately 6,000 feet upstream of U.S. 278 Crossing | +524
Locust Fork of Black Warrior River | Approximately 7,500 feet downstream of Payne Branch | +821 | Town of Walnut Grove, Etowah County (Unincorporated Areas).
| Approximately 1,000 feet upstream of Payne Branch | +827
Payne Branch | Confluence with Locust Fork of Black Warrior River | +824 | Town of Walnut Grove.
| Ashville Road Crossing | +836
Town Creek | Approximately 3,000 feet upstream of Tuscaloosa Avenue Crossing | +544 | City of Gadsden, Etowah County (Unincorporated Areas).
| Approximately 4,400 feet upstream of Tuscaloosa Avenue Crossing | +544
* National Geodetic Vertical Datum.
+ North American Vertical Datum.
# Depth in feet above ground.
ADDRESSES
City of Gadsden
Maps are available for inspection at 90 Broad Street, Gadsden, AL 35901.
City of Southside
Maps are available for inspection at 2255 Highway 77, Southside, AL 35907.
Town of Hokes Bluff
Maps are available for inspection at 3301 Alford Bend Road, Hokes Bluff, AL 35903.
Town of Walnut Grove
Maps are available for inspection at 4012 Gadsden-Blountsville Rd., Walnut Grove, AL 35990.
Etowah County (Unincorporated Areas)
Maps are available for inspection at 800 Forrest Avenue, Gadsden, AL 35901.
Navajo County, Arizona, and Incorporated Areas
Docket No.: FEMA-D-7826
Cottonwood Wash | Approximately 150 feet upstream of confluence with Silver Creek | +5568 | Town of Snowflake, Town of Taylor.
| Approximately 3.18 miles upstream of Paper Mill Road | +5747
Cottonwood Wash Split Flow | Approximately 300 feet upstream of confluence with Cottonwood Wash | +5647 | Town of Snowflake, Town of Taylor.
| Approximately 0.65 mile upstream of confluence with Cottonwood Wash | +5666
Hog Wash | Approximately 1,300 feet downstream of Hilltop Road | +6057 | Unincorporated Areas of Navajo County.
| Approximately 1,440 feet upstream of Deuces Wild Road | +6280
Hog Wash Tributary | Approximately 200 feet upstream of confluence with Hog Wash | +6143 | City of Show Low, Unincorporated Areas of Navajo County.
| Approximately 0.50 mile upstream of Smith Ranch Road | +6224
Linden Draw | Approximately 2.20 miles downstream of School House Lane | +6089 | Unincorporated Areas of Navajo County.
| Approximately 0.71 mile upstream of Mission Lane | +6306
Linden Draw Tributary | Approximately 100 feet upstream of confluence with Linden Draw | +6189 | Unincorporated Areas of Navajo County.
| Approximately 1,200 feet upstream of Burton Drive | +6276
* National Geodetic Vertical Datum.
+ North American Vertical Datum.
# Depth in feet above ground.
ADDRESSES
City of Show Low
Maps are available for inspection at 550 N. 9th Place, Show Low, AZ 85901.
Town of Snowflake
Maps are available for inspection at 81 West First Street, Snowflake, AZ 85937.
Town of Taylor
Maps are available for inspection at 425 Papermill Road, Taylor, AZ 85939.
Unincorporated Areas of Navajo County
Maps are available for inspection at 465 First Avenue, Holbrook, AZ 86025.
Del Norte County, California and Incorporated Areas
Docket No.: FEMA-B-7710
Middle Fork Smith River | At the Confluence with Smith River | +360 | Del Norte County (Unincorporated Areas).
| Approximately 1.8 miles Upstream of Horace Gasquet Memorial Bridge | +432
Smith River (Gasquet Reach)—North Fork Smith River | Approximately 300 feet Upstream of Mary Adams Memorial Road/US Highway 99 | +304 | Del Norte County (Unincorporated Areas).
| Approximately 4,000 feet Upstream of Confluence With Middle Fork Smith River | +379
Smith River (Hiouchi Reach) | Approximately 2,000 feet Upstream of US Highway 101 | +47 | Del Norte County (Unincorporated Areas).
| Approximately 100 feet Downstream of SouthFork Road | +152
* National Geodetic Vertical Datum.
+ North American Vertical Datum.
# Depth in feet above ground.
ADDRESSES
Del Norte County (Unincorporated Areas)
Maps are available for inspection at 981 H Street, Suite 110, Crescent City, CA 95531.
Montezuma County, Colorado, and Incorporated Areas
Docket No.: FEMA-B-7746
Carpenter Wash | Downstream Study Limit—Cortez Corporate Boundary/North Broadway | +6034 | City of Cortez.
| Upstream Study Limit—500 feet Upstream (Southwest) of Empire Street | +6162
Denny Lake | Downstream Study Limit—Cortez Corporate Boundary/Hawkins Street | +6120 | City of Cortez.
| Upstream Study Limit—Empire Street | +6134
Dolores River | Downstream Study Limit—2nd Street/Dolores Corporate Boundary | +6932 | Town of Dolores, Unincorporated Areas of Montezuma County.
| Upstream Study Limit—Breanna Lane/Dolores Corporate Boundary | +6962
Dolores River | Downstream Study Limit—Confluence With Lost Canyon Creek | +6930 | Unincorporated Areas of Montezuma County, Town of Dolores.
| Upstream Study Limit—Montezuma/Dolores County Line | +8446
Glade Draw | Downstream Study Limit—1,600 feet Upstream (North) of McElmo Creek | +5970 | City of Cortez.
| Upstream Study Limit—200 feet Upstream (North) of 7th Street | +6139
Industrial Wash | Downstream Study Limit—Confluence With Carpenter Wash | +6046 | City of Cortez.
| Upstream Study Limit—Cortez Corporate Boundary | +6055
Lower Cornett Draw | Downstream Study Limit—Confluence With Carpenter Wash | +6074 | City of Cortez.
| Upstream Study Limit—Cortez Corporate Boundary | +6117
Mancos River—Lower Reach | Downstream Study Limit—Confluence with Chicken Creek | +6816 | Unincorporated Areas of Montezuma County, Town of Mancos.
| Upstream Study Limit—7,200 feet Upstream of Confluence With Chicken Creek/FEMA Cross Section N | +6920
Mancos River—Upper Reach | Downstream Study Limit—200 feet Upstream of Business 160 and Montezuma Street | +7054 | Unincorporated Areas of Montezuma County, Town of Mancos.
| Upstream Study Limit—700 feet Upstream of Highway 160 | +7116
South Central | Downstream Study Limit—700 feet Upstream (North) of McElmo Creek | +6021 | City of Cortez.
| Upstream Study Limit—200 feet Downstream (South) of 4th Street | +6143
Walmart Tributary | Downstream Study Limit—1,200 feet Upstream (Northeast) of McElmo Creek | +6068 | City of Cortez, Unincorporated Areas of Montezuma County.
| Upstream Study Limit—100 feet Downstream (South) of Main Street | +6140
West Dolores River | Downstream Study Limit—Confluence with Dolores River | +7366 | Unincorporated Areas of Montezuma County.
| Upstream Study Limit—Montezuma/Dolores County Line | +7546
West South Central | Downstream Study Limit—Confluence with South Central | +6046 | City of Cortez, Unincorporated Areas of Montezuma County.
| Upstream Study Limit—7th Street | +6134
* National Geodetic Vertical Datum.
+ North American Vertical Datum.
# Depth in feet above ground.
ADDRESSES
City of Cortez
Maps are available for inspection at City Hall, 210 E. Main Street, Cortez, CO 81321.
Town of Dolores
Maps are available for inspection at Town Hall, 420 Central Avenue, Dolores, CO 81321.
Town of Mancos
Maps are available for inspection at Town Hall, 117 North Main Street, Mancos, CO 81328.
Unincorporated Areas of Montezuma County
Maps are available for inspection at County Courthouse, 109 West Main Street, Cortez, CO 81321.
Hartford County, Connecticut (All Jurisdictions)
Docket No.: FEMA-B-7743
Connecticut River | At confluence with Dividend Brook | +26 | Town of East Hartford, Town of East Windsor, Town of Enfield, Town of Glastonbury, City of Hartford, Town of Rocky Hill, Town of South Windsor, Town of Suffield, Town of Wethersfield, Town of Windsor, Town of Windsor Locks.
| At Connecticut/Massachusetts state boundary | +57
# Depth in feet above ground.
+ North American Vertical Datum.
* National Geodetic Vertical Datum.
ADDRESSES
Town of East Hartford
Maps are available for inspection at 740 Main Street, East Hartford, Connecticut 06108.
Town of East Windsor
Maps are available for inspection at East Windsor Town Hall, 11 Rye Street, Broad Brook, Connecticut 06016.
Town of Glastonbury
Maps are available for inspection at Town Hall, 2155 Main Street, Glastonbury, Connecticut 06033.
City of Hartford
Maps are available for inspection at Department of Public Works, 525 Main Street, Hartford, Connecticut 06103.
Town of Rocky Hill
Maps are available for inspection at 761 Old Main Street, Rocky Hill, Connecticut 06067.
Town of South Windsor
Maps are available for inspection at South Windsor Town Hall, 1540 Sullivan Avenue, South Windsor, Connecticut 06074.
Town of Suffield
Maps are available for inspection at Town Clerk's Office, 83 Mountain Road, Suffield, Connecticut 06078.
Town of Wethersfield
Maps are available for inspection at 505 Dean Silas Highway, Wethersfield, Connecticut 06109.
Town of Windsor
Maps are available for inspection at Windsor Town Hall, 275 Broad Street, Windsor, Connecticut 06095.
Town of Windsor Locks
Maps are available for inspection at Windsor Locks Town Hall, 50 Church Street, Windsor Locks, Connecticut 06096.
Town of Enfield
Maps are available for inspection at Enfield Town Engineer's Office, 820 Enfield Street, Enfield, Connecticut 06082.
District of Columbia Washington, DC
Docket No.: FEMA-B-7737
Anacostia River | Approximately at Anacostia Railroad Bridge | +13 | District of Columbia.
| At approximately 200 feet upstream of New York Avenue | +17
Barnaby Run | Approximately at the confluence with Oxon Run | +21 | District of Columbia.
| At approximately 1,200 feet upstream of South Capital and Southern Avenue | +53
Broad Branch | At approximately 2,560 feet upstream of Ridge Road | +102 | District of Columbia.
| At approximately 760 feet upstream of 27th Street | +187
Creek Along Normanstone Drive | At approximately 230 feet downstream of the Rock Creek Drive | +40 | District of Columbia.
| At approximately 190 feet upstream of Normanstone Drive | +150
East Creek A | At approximately 2,250 feet downstream of Dalecarlia Parkway | +165 | District of Columbia.
| At approximately 675 feet downstream of Dalecarlia Parkway | +169
East Creek B | Approximately at the Glenbrook Road | +240 | District of Columbia.
| At approximately 760 feet upstream of Driveway Bridge #4 | +308
Fenwick Branch | Approximately at the confluence with Rock Creek | +176 | District of Columbia.
| At approximately 3,620 feet upstream of the confluence with Tributary of Fenwick Branch | +232
Fort Dupont Creek | Approximately 500 feet downstream of Minnesota Avenue Bridge | +23 | District of Columbia.
| At approximately 40 feet downstream of Minnesota Avenue Bridge | +29
Melvin Hazen Branch | Approximately 1,000 feet upstream from Connecticut Avenue NW | +208 | District of Columbia.
| At approximately 125 feet downstream of Reno Road | +244
Oxon Run | At approximately 320 feet upstream of the confluence with Barnaby Run | +23 | District of Columbia.
| At approximately 6,160 feet upstream of Wheeler Road | +103
Pinehurst Run | Approximately at the confluence with Rock Creek | +165 | District of Columbia.
| At approximately 3,100 feet upstream of Oregon Avenue | +255
Pope Branch | At approximately 80 feet upstream of Minnesota Avenue | +45 | District of Columbia.
| Approximately 4,630 feet upstream of Minnesota Avenue | +159
Potomac River | At approximately 500 feet downstream of Route 95 | +9 | District of Columbia.
| At approximately 2,200 feet upstream of Chain Bridge Road | +41
Rock Creek | Approximately at the confluence with Potomac River | +16 | District of Columbia.
| Approximately at the confluence with Fenwick Branch | +176
Tributary to Fenwick Branch | Approximately at the confluence with Fenwick Creek | +191 | District of Columbia.
| At approximately 2,500 feet upstream of the confluence with Fenwick Branch | +231
Watts Branch | Approximately at the confluence with Anacostia River | +15 | District of Columbia.
| Approximately at Southern Avenue | +96
* National Geodetic Vertical Datum.
+ North American Vertical Datum.
# Depth in feet above ground.
ADDRESSES
District of Columbia
Maps are available for inspection at 51 N Street, NE, Suite 5020, Washington, DC 20002.
Chatham County, Georgia, and Incorporated Areas
Docket No.: FEMA-B-7752
Black Creek | Just upstream of Interstate Highway 95/State Highway 405 | +13 | City of Port Wentworth.
| At Norfolk Southern Railway | +16
Black Creek Tributary No. 2 | At the confluence with Black Creek | +13 | City of Port Wentworth.
| Approximately 2,990 feet upstream of Saussy Road | +15
Chippewa Canal | Approximately 250 feet downstream of East Montgomery Cross Road | +12 | City of Savannah.
| Approximately 1,010 feet upstream of Mall Boulevard | +18
Coffee Bluff Ponding Area | Entire Shoreline | +14 | City of Savannah.
Colonial Oaks Canal | Just upstream of Stillwood Drive | +11 | City of Savannah.
| At Windsor Road | +15
Colonial Oaks Canal Tributary No. 1 | At the confluence with Colonial Oaks Canal | +11 | City of Savannah.
| Approximately 640 feet upstream of Rockingham Road | +16
Colonial Oaks Canal Tributary No. 1.1 | At the confluence with Colonial Oaks Canal Tributary No. 1 | +14 | City of Savannah.
| Approximately 310 feet upstream of Stillwood Drive | +17
Dundee Canal | Approximately 2,330 feet downstream of Chatham Parkway | +11 | Unincorporated Areas of Chatham County, City of Garden City, City of Savannah.
| Approximately 3,690 feet upstream of Chatham Parkway | +11
Hardin Canal | Just upstream of Pine Barren Road | +13 | Town of Pooler, City of Bloomingdale.
| At CSX Railroad (3rd crossing) | +19
Harmon Canal | Just upstream of Edgewater Road | +12 | City of Savannah.
| Approximately 570 feet upstream of Montgomery Cross Road | +18
Kingsway Canal | Just upstream of Whitfield Avenue/State Highway 204 Spur | +11 | Unincorporated Areas of Chatham County.
| Approximately 1,170 feet upstream of Kings Way | +14
Little Ogeechee River Tributary | At Little Neck Road | +13 | Unincorporated Areas of Chatham County.
| Approximately 3,120 feet upstream of Middle Landing Road | +18
Louis Mills Branch | At the confluence with South Springfield Canal | +12 | Unincorporated Areas of Chatham County.
| Approximately 1,980 feet upstream of Marshall Avenue | +19
Pipe Makers Canal | Approximately 1,000 feet upstream of Norfolk Southern Railway (1st crossing) | +11 | Unincorporated Areas of Chatham County, City of Bloomingdale, City of Garde.City, City of Savannah, Town of Pooler.
| Just downstream of U.S. Highway 80/State Highway 17/26 | +21
Pipe Makers Canal Tributary No. 2 | At the confluence with Pipe Makers Canal | +20 | Unincorporated Areas of Chatham County, City of Bloomingdale, Town of Pooler.
| Approximately 500 feet downstream of Conaway Road | +20
St. Augustine Creek Tributary | Approximately 6,180 feet downstream of Jimmy DeLoach Parkway | +19 | City of Bloomingdale, Unincorporated Areas of Chatham County.
| Approximately 4,820 feet upstream of Jimmy DeLoach Parkway | +20
Tributary to Little Ogeechee River Tributary | At confluence with Little Ogeechee River Tributary | +15 | Unincorporated Areas of Chatham County.
| Approximately 3,300 feet upstream of Middle Landing Road | +19
Windsor Forest Canal East | Approximately 330 feet upstream of Stillwood Drive | +11 | City of Savannah.
| Approximately 710 feet upstream of Deerfield Road | +15
Windsor Forest Canal Tributary | At the confluence with Windsor Forest Canal West | +16 | City of Savannah.
| Approximately 2,980 feet upstream of confluence with Windsor Forest Canal West | +17
Windsor Forest Canal Tributary No. 2 | At the confluence with Windsor Forest Canal East | +13 | City of Savannah.
| Approximately 390 feet upstream of Largo Drive | +17
Windsor Forest Canal Tributary No. 3 | At the confluence with Windsor Forest Canal East and Colonial Oaks Canal | +15 | City of Savannah.
| Approximately 410 feet upstream of Windsor Road | +15
Windsor Forest Canal West | Approximately 250 feet upstream of Thorny Bush Road | +11 | City of Savannah.
| Approximately 3,410 feet upstream of Roger Warlick Drive | +19
* National Geodetic Vertical Datum.
+ North American Vertical Datum.
# Depth in feet above ground.
ADDRESSES
City of Bloomingdale
Maps are available for inspection at #8 West U.S. Highway 80, Bloomingdale, GA 31302.
City of Garden City
Maps are available for inspection at 100 Main Street, Garden City, GA 31408.
City of Port Wentworth
Maps are available for inspection at 305 South Coastal Highway, Port Wentworth, GA 31407.
City of Savannah
Maps are available for inspection at 2 East Bay Street, P.O. Box 1027, Savannah, GA 31401.
Town of Pooler
Maps are available for inspection at 100 Southwest Highway 80, Pooler, GA 31322.
Unincorporated Areas of Chatham County
Maps are available for inspection at 124 Bull Street, Suite 200, Savannah, GA 31401.
Chattooga County, Georgia, and Incorporated Areas
Docket No.: FEMA-B-7752
Armuchee Creek | Approximately 350 feet downstream of county boundary | +635 | Unincorporated Areas of Chattooga County.
| Approximately 1,250 feet upstream of county boundary | +636
Chattooga River | Approximately 1,140 feet downstream of U.S. Highway 27/State Highway 1 | +656 | Unincorporated Areas of Chattooga County, Town of Trion.
| Approximately 365 feet downstream of U.S. Highway 27/State Highway 1 | +657
Little Armuchee Creek | Approximately 920 feet downstream of county boundary | +636 | Unincorporated Areas of Chattooga County.
| At county boundary | +636
* National Geodetic Vertical Datum.
+ North American Vertical Datum.
# Depth in feet above ground.
ADDRESSES
Town of Trion
Maps are available for inspection at 1220 Pine Street, Trion, GA 30753.
Unincorporated Areas of Chattooga County
Maps are available for inspection at 120 Cox Street, Summerville, GA 30747-1398.
Crawford County, Georgia, and Incorporated Areas
Docket No.: FEMA-B-7752
Echeconnee Creek | At the Crawford/Bibb/Peach County Boundary | +288 | Unincorporated Areas of Crawford County.
| Just upstream of Boy Scout Road | +308
* National Geodetic Vertical Datum.
+ North American Vertical Datum.
# Depth in feet above ground.
ADDRESSES
Unincorporated Areas of Crawford County
Maps are available for inspection at 1011 Highway 341 North, Roberta, GA 31078.
Fayette County, Georgia, and Incorporated Areas
Tar Creek | Approximately 135 feet downstream of Lees Mill Road | +847 | Unincorporated Areas of Fayette County.
| At confluence with Whitewater Creek | +847
* National Geodetic Vertical Datum.
+ North American Vertical Datum.
# Depth in feet above ground.
ADDRESSES
Unincorporated Areas of Fayette County
Maps are available for inspection at Stonewall Administration Complex, 140 Stonewall Avenue West, Suite 100, Fayetteville, GA 30214.
Haralson County, Georgia, and Incorporated Areas
Docket No.: FEMA-B-7746
Cochran Creek | Approximately 950 feet downstream from Dallas Road | +1157 | Unincorporated Areas of Haralson County, City of Buchanan.
| Approximately 750 feet upstream from Moore Street | +1199
* National Geodetic Vertical Datum.
+ North American Vertical Datum.
# Depth in feet above ground.
ADDRESSES
City of Buchanan
Maps are available for inspection at 4300 Highway 120, Buchanan, GA 30113.
Unincorporated Areas of Haralson County
Maps are available for inspection at 155 Van Wert Street, Buchanan, GA 30113.
Liberty County, Georgia, and Incorporated Areas
Docket No.: FEMA-B-7752
Jerico River | Approximately 6,650 feet downstream of CSX railroad | +10 | Unincorporated Areas of Liberty County.
| At CSX railroad | +10
Mill Creek | Approximately 3,830 feet upstream of Fort Stewart Railway | +71 | Unincorporated Areas of Liberty County.
| Approximately 4,570 feet upstream of the confluence of Mill Creek Tributary No. 2 | +76
* National Geodetic Vertical Datum.
+ North American Vertical Datum.
# Depth in feet above ground.
ADDRESSES
Unincorporated Areas of Liberty County
Maps are available for inspection at Liberty County Courthouse Annex, Room 105, 12 North Main Street, Hinesville, GA 31313.
Lowndes County, Georgia, and Incorporated Areas
Docket No.: B-7700
Sugar Creek | At confluence with Withlacoochee River | +131 | Lowndes County (Unincorporated Areas), City of Valdosta.
| Approximately 175 feet downstream of Gornto Road | +131
Two Mile Branch | At confluence with Sugar Creek | +131 | Lowndes County (Unincorporated Areas), City of Valdosta.
| Approximately 1,800 feet upstream of confluence with Sugar Creek | +131
Withlacoochee River | Approximately 9,250 feet downstream of State Highway 31 | +90 | +Lowndes County (Unincorporated Areas)
| Approximately 4,950 feet upstream of abandoned railroad | +97
* National Geodetic Vertical Datum.
+ North American Vertical Datum.
# Depth in feet above ground.
ADDRESSES
Lowndes County (Unincorporated Areas)
Maps are available for inspection at the County Office, 325 West Savannah Avenue, Valdosta, Georgia 31601.
City of Valdosta
Maps are available for inspection at the County Office, 327 West Savannah Avenue, Valdosta, Georgia 31601.
Lowndes County, Georgia, and Incorporated Areas
Docket No.: FEMA-B-7733 & D-7816
Sugar Creek | At Baytree Road | *145 | City of Remerton.
| Approximately 1,100 feet downstream of the confluence of One Mile Branch | *148
* National Geodetic Vertical Datum.
+ North American Vertical Datum.
# Depth in feet above ground.
ADDRESSES
City of Remerton
Maps are available for inspection at 1757 Poplar Street, Remerton, GA 31601.
Putnam County, Georgia, and Incorporated Areas
Docket No.: FEMA-B-7749
Rooty Creek | Approximately 60 feet upstream of Oconee Springs Road | +452 | City of Eatonton.
| Approximately 2,380 feet upstream of Sparta Highway/State Highway 16/State Highway 44 | +479
* National Geodetic Vertical Datum.
+ North American Vertical Datum.
# Depth in feet above ground.
ADDRESSES
City of Eatonton
Maps are available for inspection at 201 North Jefferson Avenue, Eatonton, GA 31204.
Shoshone County, Idaho, and Incorporated Areas
Docket No.: FEMA-B-7748
Pine Creek without levee | Approximately 600 feet upstream of Interstate 90 off-ramp | +2208 | City of Pinehurst.
| Approximately 750 feet downstream of Ohio Avenue | +2240
Pine Creek without levee | Just upstream of Interstate 90 at Old ID State Route 10 | +2198 | Unincorporated Areas of Shoshone County.
| Approximately 3,700 feet upstream of Ohio Avenue | +2277
* National Geodetic Vertical Datum.
+ North American Vertical Datum.
# Depth in feet above ground.
ADDRESSES
City of Pinehurst
Maps are available for inspection at 106 North Division Street, Pinehurst, ID 83850.
Unincorporated Areas of Shoshone County
Maps are available for inspection at 700 Bank Street, Suite 35, Wallace, ID 83873
Bossier Parish, Louisiana (Unincorporated Areas)
Docket No.: FEMA-P-7919
Alligator Bayou | At the confluence with Flat River | *160 | City of Bossier City.
| Approximately 1,550 feet downstream of U.S. Highway 79/80 Eastbound | *162
Benoit Bayou | At the confluence with Macks Bayou Segment G and Macks Bayou Segment H | *168 | City of Bossier City, Bossier Parish (Unincorporated Areas).
| Approximately 12,520 feet upstream of Brownlee Road | *173
Bossier Ditch | Approximately 60 feet upstream of the confluence with Cooper Bayou and Macks Bayou Segment F | *159 | City of Bossier City.
| Approximately 180 feet upstream of Benton Road | *170
Fifi Bayou | Just upstream of U.S. Interstate 20 | *174 | Bossier Parish (Unincorporated Areas).
| Approximately 9,000 feet upstream of Winfield Road | *190
Flat River | Just upstream of State Route 527 | *154 | City of Bossier City, Bossier Parish (Unincorporated Areas).
| Approximately 500 feet upstream of U.S. Interstate 220 Westbound | *164
Flat River Drainage Canal | Just upstream of Coy Road | *165 | City of Bossier City, Bossier Parish (Unincorporated Areas).
| Approximately 400 feet upstream of Airline Drive | *174
Flat River (Upper Reach) | Approximately 540 feet upstream of the confluence with Flat River Drainage Canal | *175 | Bossier Parish (Unincorporated Areas).
| Approximately 4,830 feet upstream of the confluence of Willow Chute Lateral | *177
Herndon Ditch | At the confluence with Flat River | *158 | City of Bossier City, Bossier Parish (Unincorporated Areas).
| Approximately 1,300 feet downstream of the confluence of Macks Bayou Segment B | *158
Lake Bistineau | Entire shoreline within Bossier Parish | *148 | Bossier Parish (Unincorporated Areas).
Macks Bayou Segment A | At the confluence with Flat River | *157 | City of Bossier City, Bossier Parish (Unincorporated Areas).
| Approximately 25 feet upstream of Golden Meadows Drive | *157
Macks Bayou Segment E | Approximately 1,025 feet upstream of the confluence with Bossier Ditch | *163 | City of Bossier City.
| Approximately 2,010 feet upstream of the confluence with Bossier Ditch | *163
Macks Bayou Segment G | Approximately 800 feet upstream of Kansas City Southern Railray | *167 | City of Bossier City.
| At the confluence of Benoit Bayou and junction with Macks Bayou Segment H | *168
Macks Bayou Segment H | Approximately 190 feet upstream of the confluence with Flat River | *168 | City of Bossier City, Bossier Parish (Unincorporated Areas).
| At the confluence of Benoit Bayou and divergence of Macks Bayou Segment G | *168
Racetrack Bayou | At the confluence with Willow Chute | *166 | City of Bossier City.
| At U.S. Interstate 220 Westbound and divergence from Macks Bayou Segment H | *168
Red Chute Bayou | Approximately 12,400 feet upstream of Smith Road | *154 | City of Bossier Parish (Unincorporated Areas).
| Approximately 4,050 feet upstream of Dogwood Trail | *169
Willow Chute Lateral | At the confluence with Flat River (Upper Reach) | *177 | Bossier Parish (Unincorporated Areas).
| Approximately 4,930 feet upstream of the confluence with Flat River (Upper Reach) | *177
* National Geodetic Vertical Datum.
+ North American Vertical Datum.
# Depth in feet above ground.
ADDRESSES
City of Bossier City
Maps are available for inspection at City Hall, 620 Benton Road, Bossier City, Louisiana.
Bossier Parish (Unincorporated Areas)
Maps are available for inspection at the Police Jury Office, 204 Burt Boulevard, Room 108, Benton, Louisiana.

Flooding source(s) | Location of referenced elevation | + Baltimore County datum modified | Communities affected
Baltimore County, Maryland and Incorporated Areas
Docket No.: FEMA-D-7684
Dead Run | Approximately 180 feet upstream of Gwynn Oak Avenue | +337 | Baltimore County (Unincorporated Areas).
| Approximately 726 feet upstream of Dogwood Road | +427
Tributary No. 1 to Dead Run | At the confluence with Dead Run | +356 | Baltimore County (Unincorporated Areas).
| Approximately 500 feet upstream of I-695 | +395
Tributary No. 3 to Dead Run | At the confluence with Dead Run | +388 | Baltimore County (Unincorporated Areas).
| Approximately 400 feet upstream of Kennicott Road | +410
+ Baltimore County Datum.
ADDRESSES
Baltimore County (Unincorporated Areas)
Maps are available for inspection at the Baltimore County Office Building, 111 West Chesapeake Avenue, Room 307, Towson, Maryland.

Flooding source(s) | Location of referenced elevation | * Elevation in feet (NGVD) + Elevation in feet (NAVD) # Depth in feet above ground Modified | Communities affected
Bernalillo County, New Mexico and Incorporated Areas
Docket No.: FEMA-B-7457
Boca Negra Arroyo | Approximately 1,600 feet upstream of the confluence of Boca Negra Arroyo and Middle Tributary of Boca Negra Arroyo | +5215 | Bernalillo County (Unincorporated Areas).
| Approximately 2,600 feet upstream of the intersection of Faciel Rd. and Boca Negra Arroyo | +5436
Borrega Stream | Approximately 2,270 feet downstream from Perdiz Street | +4925 | Bernalillo County (Unincorporated Areas).
| Approximately 1,550 feet upstream of 118th Street | +5210
Calabacillas Arroyo | Confluence with Rio Grande and Calabacillas Arroyo | +5009 | Bernalillo County (Unincorporated Areas).
| Upstream 500 feet of the intersection of Pratt St. NW and Navajo Dr. NW | +5402
Embudo Arroyo | Approximately 250 feet downstream of the intersection of Tramway Blvd and Embudo Arroyo | +5838 | Bernalillo County (Unincorporated Areas).
| Approximately 375 feet downstream of the intersection of Menaul Blvd. and Embudo Arroyo | +6004
Frost Arroyo | Approximately 125 feet northeast of intersection of Paa Ko Golf Dr. and North 14 | +6421 | Bernalillo County (Unincorporated Areas).
| Confluence with San Pedro Creek | +6583
Juniper Hill Arroyo | Approximately 500 feet downstream of the intersection of Eagle Nest Dr. and Juniper Hill Arroyo | +6260 | Bernalillo County (Unincorporated Areas).
| Approximately 875 feet upstream of the intersection of Eagle Nest Dr. and Juniper Hill Arroyo | +6424
Menaul Detention Basin | Menaul Detention Basin | +4999 | Bernalillo County (Unincorporated Areas).
| Intersection of I25 and Menaul Detention Basin | +5028
Mesa Del Sol Playa 1 | Approximately 1,800 feet from the City of Albuquerque and Kirtland Air Force Base on the Isleta Reservation Boundary | +5257 | Bernalillo County (Unincorporated Areas).
Mesa Del Sol Playa 2 | Approximately 2.2 miles north of the Isleta Reservation Boundary and 1.5 miles east of the City of Albuquerque and Kirtland Air Force Base Boundary | +5268 | Bernalillo County (Unincorporated Areas).
Mesa Del Sol Playa 3 | Approximately 1,400 feet from the City of Albuquerque and Kirtland Air Force Base to the east and coincident with the City of Albuquerque and Isleta Indian Reservation Boundary | +5283 | Bernalillo County (Unincorporated Areas).
Middle Tributary of Boca Negra Arroyo | Approximately 250 feet downstream of the intersection of Rim Rock and Middle Tributary of Boca Negra Arroyo | +5296 | Bernalillo County (Unincorporated Areas).
| Approximately 375 feet upstream of the intersection of Boulevard De Oest Ln. and Middle Tributary of Boca Negra Arroyo | +5617
Pino Arroyo | Approximately 1,000 feet upstream of the intersection of Pino Arroyo and I25 | +5220 | Bernalillo County (Unincorporated Areas).
| Approximately 500 feet upstream of the intersection of Wyoming Blvd and Pino Arroyo | +5405
San Antonio Arroyo North | Confluence of San Antonio Arroyo North and San Antonio Arroyo South | +5119 | Bernalillo County (Unincorporated Areas).
| Approximately 2,000 feet upstream of the intersection of Carrick St. and San Antonio Arroyo North | +5182
San Antonio Arroyo South | Aproximately 125 feet downstream of the intersection of Coors Blvd. and San Antonio Arroyo South | +5050 | Bernalillo County (Unincorporated Areas).
| Approximately 1,000 feet upstream of the intersection of Vulcan Rd. and San Antonio Arroyo South | +5167
San Pedro Creek | Intersection of Bus Lane and San Pedro Creek | +6858 | Bernalillo County (Unincorporated Areas).
| Intersection of Old Crest Rd. and San Pedro Creek | +6955
* National Geodetic Vertical Datum.
+ North American Vertical Datum.
# Depth in feet above ground.
ADDRESSES
Unincorporated Areas of Bernalillo County
Maps are available for inspection at Bernalillo Public Works, 2400 Broadway SE, Albuquerque, NM 87102.
City of Albuquerque
Maps are available for inspection at Plaza Del Sol, 600 2nd Street NW, Albuquerque, NM 87102.
Erie County, New York (All Jurisdictions)
Docket No.: FEMA-B-7746
Cazenovia Creek | At a point approximately 175 feet upstream of Bailey Road | +584 | City of Buffalo.
| At a point approximately 830 feet upstream from the Golf Course Bridge | +597
Ellicott Creek | At a point approximately 1,738 feet downstream of Glen Avenue | +608 | Village of Williamsville.
| A point located approximately 230 feet downstream of Interstate 90 | +683
Spicer Creek | A point located approximately 1,625 feet upstream of East River Road | +571 | Town of Grand Island.
| A point located approximately 3,350 feet upstream of Harvey Road | +585
* National Geodetic Vertical Datum.
+ North American Vertical Datum.
# Depth in feet above ground.
ADDRESSES
City of Buffalo
Maps are available for inspection at Buffalo City Hall, 65 Niagara Square, Buffalo, New York.
Town of Grand Island
Maps are available for inspection at Grand Island Town Hall, 2255 Baseline Road, Grand Island, New York.
Village of Williamsville
Maps are available for inspection at Williamsville Village Hall, 5565 Main Street, Williamsville, New York.
Cleveland County, Oklahoma, and Incorporated Areas
Docket No.: FEMA-B-7706
Dave Blue Creek North | Approximately 100 feet downstream of State Highway 9 | +1120 | City of Norman.
| Approximately 3000 feet upstream from State Highway 9 | +1131
East Rock Creek | Approximately 500 feet downstream from 36th Ave | +1118 | City of Norman.
| Approximately 4500 feet upstream from 36th Ave | +1139
Stream B | Approximately 1000 feet upstream from confluence with North Fork River | +1142 | City of Moore.
| Approximately 1900 feet upstream from SE 19th St | +1165
Tributary 0 of Canadian River Tributary 1 | Confluence with Canadian Tributary 1 | +1179 | City of Moore, City of Oklahoma City.
| Approximately 700 feet upstream from North Nottingham Way | +1290
* National Geodetic Vertical Datum.
+ North American Vertical Datum.
# Depth in feet above ground.
ADDRESSES
City of Moore
Maps are available for inspection at 301 North Broadway, Moore, OK 73160.
City of Norman
Maps are available for inspection at 201 South Jones, Norman, OK 73068.
City of Oklahoma City
Maps are available for inspection at 420 West Main, Suite 700, Oklahoma City, OK 73102.
Washington County, Oklahoma, and Incorporated Areas
Docket No.: FEMA-B-7705
Caney River | Approximately 2,000 feet upstream from West 2350 Drive | +664 | City of Bartlesville, Washington County (Unincorporated Areas).
| At intersection with West 1400 Road | +684
* National Geodetic Vertical Datum.
+ North American Vertical Datum.
# Depth in feet above ground.
ADDRESSES
City of Bartlesville
Maps are available for inspection at 420 S. Johnstone, Bartlesville, OK 74004.
Washington County (Unincorporated Areas)
Maps are available for inspection at 420 S. Johnstone, Bartlesville, OK 74004.
Clinton County, Pennsylvania, and Incorporated Areas
Docket No.: B-7718
Fishing Creek | Approximately 550 feet downstream of Peale Avenue | +569 | Borough of Mill Hall, Township of Bald Eagle, Township of Lamar, Township of Porter.
| Approximately at 4420 feet upstream of Furnance Road (Township Route 323) | +862
* National Geodetic Vertical Datum.
+ North American Vertical Datum.
# Depth in feet above ground.
ADDRESSES
Borough of Mill Hall
Maps are available for inspection at Beach Creek Avenue, Mill Hall, PA 17751.
Township of Bald Eagle
Maps are available for inspection at 604 Lusk Run Road, Mill Hall, PA 17751.
Township of Lamar
Maps are available for inspection at 148 Beagle Road, Mill Hall, PA 17751.
Township of Porter
Maps are available for inspection at 153 Clintondale Hill Road, Mill Hall, PA 17751.
York County, South Carolina and Incorporated Areas
Docket Nos.: FEMA-B-7463 and FEMA-B-7706
Abernathy Creek | Approximately 4,550 feet downstream of Rowells Road | +484 | York County (Unincorporated Areas).
| Approximately 300 feet downstream of Rowells Road | +509
Allison Creek | At the confluence with Big Allison Creek | +667 | York County (Unincorporated Areas), Town of Clover.
| Approximately 3,800 feet upstream of Faulkner Road | +703
Allison Creek Tributary | At the confluence with Allison Creek | +679 | York County (Unincorporated Areas).
| Just downstream of Faulkner Road | +686
Allison Creek Tributary 1 | At the confluence with Allison Creek | +676 | York County (Unincorporated Areas).
| Approximately 275 feet upstream of Thomas Road | +731
Allison Creek Tributary 2 | At the confluence with Allison Creek Tributary 1 | +698 | York County (Unincorporated Areas).
| Approximately 310 feet downstream of Thomas Road | +721
Beaverdam Creek | At the confluence with Crowders Creek | +579 | York County (Unincorporated Areas).
| Approximately 1,090 feet downstream of Barrett Road | +736
Beaverdam Creek West | At the confluence with Broad River | +438 | York County (Unincorporated Areas).
| Approximately 1,270 feet upstream of the Dagnall Road | +582
Beaverdam Creek Tributary 1 | At the confluence with Beaverdam Creek | +593 | York County (Unincorporated Areas).
| Approximately 6,010 feet upstream of Chimney Ford Road | +666
Beaverdam Creek Tributary 2 | At the confluence with Beaverdam Creek | +635 | York County (Unincorporated Areas).
| Approximately 320 feet downstream of Bate Harvey Road | +685
Beaverdam Creek Tributary 3 | At the confluence with Beaverdam Creek | +649 | Town of Clover.
| Approximately 7,540 feet upstream of Old Carriage Road | +728
Beaverdam Creek Tributary 4 | At the confluence with Beaverdam Creek | +711 | York County (Unincorporated Areas), Town of Clover.
| Approximately 640 feet upstream of Carbon Metallic Hwy | +789
Big Branch | At the confluence with Big Allison Branch | +575 | York County (Unincorporated Areas).
| Approximately 1,155 feet southwest of the intersection of Old Cedar Circle and Big Branch Court | +612
Big Allison Creek | At the confluence with Lake Wylie | +570 | York County (Unincorporated Areas).
| Approximately 5,570 feet upstream of the confluence with Big Allison Creek Tributary 4 | +771
Big Allison Creek Tributary 1 | At the confluence with Big Allison Branch | +634 | York County (Unincorporated Areas).
| Approximately 5,280 feet upstream of Paraham Road South | +634
Big Allison Creek Tributary 2 | At the confluence with Big Allison Creek | +633 | York County (Unincorporated Areas).
| Just downstream of Meadow Road | +641
Big Allison Creek Tributary 3 | At the confluence with Big Allison Creek | +673 | York County (Unincorporated Areas).
| Approximately 60 feet upstream of Brown Pelican Court | +713
Big Allison Creek Tributary 4 | At the confluence with Big Allison Creek | +735 | York County (Unincorporated Areas).
| Approximately 80 feet downstream of Wilmoth Road | +784
Big Dutchman Creek | At the confluence with Catawba River | +511 | York County (Unincorporated Areas), City of Rock Hill.
| Approximately 50 feet downstream of Mt. Gallant Road | +515
Blue Branch | At the confluence with Turkey Creek | +387 | York County (Unincorporated Areas).
| Approximately 550 feet downstream of McConnells Hwy West | +472
Blue Branch Tributary 1 | At the confluence with Blue Branch | +392 | York County (Unincorporated Areas).
| Approximately 3,800 feet upstream above the confluence with Blue Branch | +442
Broad River | Approximately 7,030 feet downstream of the confluence of Robertson Branch | +433 | York County (Unincorporated Areas).
| At the confluence of Kings Creek | +456
Bryson Creek | At the confluence with Turkey Creek | +414 | York County (Unincorporated Areas).
| Approximately 430 feet downstream of Parson Road | +540
Buck Horn Creek | At the confluence with Susybole Creek | +490 | York County (Unincorporated Areas).
| Approximately 440 feet downstream of Templeton Road | +744
Buck Horn Creek Tributary 1 | At the confluence with Buck Horn Creek | +562 | York County (Unincorporated Areas).
| Approximately 780 feet upstream of Broadhurst Lane | +609
Buck Horn Creek Tributary 2 | At the confluence with Buck Horn Creek | +578 | York County (Unincorporated Areas).
| Approximately 1,550 feet upstream of Propst Road | +593
Buck Horn Creek Tributary 3 | At the confluence with Buck Horn Creek | +577 | York County (Unincorporated Areas).
| Approximately 1,960 feet upstream of Propst Road | +607
Buck Horn Creek Tributary 4 | At the confluence with Buck Horn Creek | +619 | York County (Unincorporated Areas).
| Approximately 2,720 feet upstream of Quarry Road | +719
Buck Horn Creek Tributary 5 | At the confluence with Buck Horn Creek | +638 | York County (Unincorporated Areas).
| Approximately 2,940 feet upstream of the confluence with Buck Horn Creek | +736
Buck Horn Creek Tributary 6 | At the confluence with Buck Horn Creek | +701 | York County (Unincorporated Areas).
| Approximately 450 feet southeast of the intersection of Hartness Road and Templeton Road | +746
Bullock Creek | At the confluence with Broad River | +436 | York County (Unincorporated Areas).
| Approximately 1,220 feet upstream of Crossland Road | +662
Bullock Creek Tributary 1 | At the confluence of Bullock Creek | +474 | York County (Unincorporated Areas).
| Approximately 3,370 feet upstream of the confluence with Bullock Creek | +487
Bullock Creek Tributary 2 | At the confluence of Bullock Creek | +491 | York County (Unincorporated Areas).
| Approximately 8,890 feet upstream of the confluence with Bullock Creek | +547
Bullock Creek Tributary 3 | At the confluence of Bullock Creek | +506 | York County (Unincorporated Areas).
| Approximately 4,500 feet upstream of the confluence with Bullock Creek | +539
Bullock Creek Tributary 4 | At the confluence of Bullock Creek | +514 | York County (Unincorporated Areas).
| Approximately 2,520 feet upstream of the confluence with Bullock Creek | +541
Bullock Creek Tributary 5 | At the confluence of Bullock Creek | +522 | York County (Unincorporated Areas).
| Approximately 1,350 feet upstream of the confluence with Bullock Creek | +529
Bullock Creek Tributary 6 | At the confluence of Bullock Creek | +530 | York County (Unincorporated Areas).
| Approximately 2,110 feet upstream of the confluence with Bullock Creek | +550
Bullock Creek Tributary 7 | At the confluence of Bullock Creek | +620 | York County (Unincorporated Areas).
| Approximately 90 feet downstream of Beersheba Road North | +649
Burgis Creek | At the confluence of Catawba River | +492 | York County (Unincorporated Areas).
| Approximately 100 feet downstream of White Horse Road | +550
Calabash Branch | At the confluence with Big Allison Creek | +618 | York County (Unincorporated Areas), Town of Clover.
| Approximately 850 feet upstream of McConnell Street | +762
Camp Run | At the confluence with Beaverdam Creek | +594 | York County (Unincorporated Areas).
| Approximately 300 feet upstream of W. H. Stowe Road | +606
Carter Branch | At the confluence with Susybole Creek | +458 | York County (Unincorporated Areas).
| Approximately 1,640 feet upstream of Burgis Road South | +490
Catawba River | Approximately 4,370 feet downstream of the Railroad crossing | +467 | York County (Unincorporated Areas), Catawba Indian Nation.
| Just downstream of the Lake Wylie Dam | +517
Catawba River Tributary 1 | At the confluence with Catawba River | +467 | York County (Unincorporated Areas), City of Rock Hill.
| At the Chester/York County Boundary | +502
Catawba River Tributary 2 | At the confluence with Catawba River | +480 | York County (Unincorporated Areas).
| Approximately 3,370 feet upstream of the confluence with Catawba River | +503
Catawba River Tributary 3 | At the confluence with Mooneys Hill Branch | +521 | York County (Unincorporated Areas).
| Approximately 1,605 feet upstream of the confluence with Mooneys Hill Branch | +539
Catawba River Tributary 4 | At the confluence with Mooneys Hill Branch | +535 | York County (Unincorporated Areas).
| Approximately 1,980 feet upstream of the confluence with Mooneys Hill Branch | +545
Catawba River Tributary 6 | At the confluence with Lake Wylie | +570 | York County (Unincorporated Areas).
| Approximately 1,980 feet upstream of the confluence with Lake Wylie | +573
Catawba River Tributary 9 | At the confluence with Catawba River Tributary 3 | +529 | York County (Unincorporated Areas).
| Approximately 585 feet upstream of the confluence with Catawba River Tributary 10 | +548
Catawba River Tributary 10 | At the confluence with Catawba River Tributary 9 | +537 | York County (Unincorporated Areas).
| Approximately 625 feet upstream of the confluence with Catawba River Tributary 9 | +547
Catawba River Tributary 11 | At the confluence with Catawba River | +480 | York County (Unincorporated Areas).
| Approximately 4,530 feet upstream of the confluence with Catawba River | +507
Clark Creek | At the confluence with Bullock Creek | +467 | York County (Unincorporated Areas).
| Approximately 2,310 feet upstream of Park Road | +704
Clark Creek Tributary 1 | At the confluence with Clark Creek | +477 | York County (Unincorporated Areas).
| Approximately 870 feet downstream of Walnut Street Extension | +496
Clark Creek Tributary 2 | At the confluence with Clark Creek | +489 | York County (Unincorporated Areas).
| Approximately 1,650 feet upstream of the confluence with Clark Creek | +507
Clark Creek Tributary 3 | At the confluence with Clark Creek | +503 | York County (Unincorporated Areas).
| Approximately 2,210 feet upstream of the confluence with Clark Creek | +519
Clark Creek Tributary 4 | At the confluence with Clark Creek | +520 | York County (Unincorporated Areas).
| Approximately 1,710 feet upstream of the confluence with Clark Creek | +536
Clark Creek Tributary 5 | At the confluence with Clark Creek | +527 | York County (Unincorporated Areas).
| Approximately 2,000 feet upstream of the confluence with Clark Creek | +545
Clark Creek Tributary 6 | At the confluence with Clark Creek | +539 | York County (Unincorporated Areas).
| Approximately 1,800 feet upstream of the confluence with Clark Creek | +567
Clark Creek Tributary 8 | At the confluence with Clark Creek | +543 | York County (Unincorporated Areas).
| Approximately 1,490 feet upstream of the confluence with Clark Creek | +569
Clinton Branch | Approximately 2,160 feet downstream of the confluence of Clinton Branch Tributary 1 | +513 | York County (Unincorporated Areas).
| Approximately 2,280 feet downstream of Mount Holly Road | +612
Clinton Branch Tributary 1 | At the confluence of Clinton Branch | +522 | York County (Unincorporated Areas).
| Approximately 3,230 feet upstream of the confluence with Clinton Branch | +548
Conrad Creek | Approximately 2,160 feet downstream of the confluence with Conrad Creek Tributary 1 | +551 | York County (Unincorporated Areas).
| Approximately 6,120 feet upstream of the confluence of Conrad Creek Tributary 5 | +638
Conrad Creek Tributary 1 | At the confluence with Conrad Creek | +554 | York County (Unincorporated Areas).
| Approximately 4,450 feet upstream of the confluence with Conrad Creek | +581
Conrad Creek Tributary 2 | At the confluence with Conrad Creek | +568 | York County (Unincorporated Areas).
| Approximately 1,540 feet upstream of Lowrys Road | +616
Conrad Creek Tributary 3 | At the confluence with Conrad Creek | +567 | York County (Unincorporated Areas).
| Approximately 4,470 feet upstream of the confluence with Conrad Creek | +601
Conrad Creek Tributary 4 | At the confluence with Conrad Creek | +583 | York County (Unincorporated Areas).
| Approximately 5,450 feet upstream of the confluence with Conrad Creek | +613
Conrad Creek Tributary 5 | At the confluence with Conrad Creek | +592 | York County (Unincorporated Areas).
| Approximately 6,190 feet upstream of the confluence with Conrad Creek | +640
Creekside Branch | At the confluence with Langham Branch | +588 | York County (Unincorporated Areas), City of York.
| Approximately 665 feet upstream of the confluence of Creekside Branch Tributary 1 | +649
Creekside Branch Tributary 1 | At the confluence with Creekside Branch | +647 | York County (Unincorporated Areas), City of York.
| Approximately 300 feet south of the intersection of Benfield Avenue and Lynwood Circle | +681
Creekside Branch Tributary 2 | At the confluence with Creekside Branch | +637 | York County (Unincorporated Areas).
| Approximately 3,810 feet upstream of the confluence of Creekside Branch Tributary 7 | +674
Creekside Branch Tributary 4 | At the confluence with Creekside Branch | +602 | York County (Unincorporated Areas).
| Approximately 2,905 feet upstream of the confluence of Creekside Branch Tributary 7 | +616
Creekside Branch Tributary 5 | At the confluence with Creekside Branch | +637 | York County (Unincorporated Areas), City of York.
| Approximately 1,290 feet upstream of the confluence of Creekside Branch | +640
Creekside Branch Tributary 6 | At the confluence with Creekside Branch | +639 | York County (Unincorporated Areas).
| Approximately 1,630 feet upstream of the confluence of Creekside Branch | +644
Creekside Branch Tributary 7 | At the confluence with Creekside Branch Tributary 2 | +637 | York County (Unincorporated Areas).
| Approximately 930 feet upstream of the confluence of Creekside Branch Tributary 2 | +638
Crowders Creek | At the confluence with Lake Wylie | +570 | York County (Unincorporated Areas).
| Approximately 2,800 feet upstream of confluence of Crowder Creek Tributary 1 | +618
Crowders Creek Tributary 1 | At the confluence with Crowders Creek | +615 | York County (Unincorporated Areas).
| Approximately 1,980 feet upstream of confluence with Crowder Creek | +622
Crowders Creek Tributary 2 | At the confluence with Crowders Creek | +575 | York County (Unincorporated Areas).
| Approximately 4,100 feet upstream of confluence with Crowder Creek | +597
Crowders Creek Tributary 3 | Approximately 6,810 feet downstream of Colonial Road | +641 | York County (Unincorporated Areas).
| Approximately 4,430 feet downstream of Colonial Road | +654
Diggers Branch | At the confluence with Clark Creek | +556 | York County (Unincorporated Areas).
| Approximately 2,260 feet upstream of Jenkins Road | +649
Dry Fork | At the confluence with Turkey Creek | +482 | York County (Unincorporated Areas).
| Approximately 150 feet downstream of Sharon Road | +521
Dry Fork Tributary 1 | At the confluence of Dry Fork | +488 | York County (Unincorporated Areas), Town of Fort Mill.
| Approximately 130 feet downstream of Sharon Road | +510
Dye Branch | At the confluence with Catawba River | +507 | York County (Unincorporated Areas).
| Approximately 1,425 feet downstream of Harris Road | +531
Ferry Branch | At the confluence with Catawba River | +475 | York County (Unincorporated Areas).
| Approximately 3,540 feet upstream of Ferry Branch Tributary 3 | +612
Ferry Branch Tributary 2 | At the confluence with Ferry Branch | +533 | York County (Unincorporated Areas).
| Approximately 1,450 feet downstream of Reservation Road | +555
Ferry Branch Tributary 3 | At the confluence with Ferry Branch | +568 | York County (Unincorporated Areas).
| Approximately 470 feet downstream of Cureton Ferry Road | +577
Fishing Creek | Approximately 2,470 feet downstream of the confluence of a unnamed tributary to Fishing Creek | +486 | York County (Unincorporated Areas), City of Rock Hill, City of York.
| Approximately 760 feet upstream of Lincoln Road | +656
Fishing Creek Tributary | At the confluence with Fishing Creek | +547 | York County (Unincorporated Areas).
| Approximately 2,925 feet upstream of Zinker Road | +605
Fishing Creek Tributary 1 | At the confluence with Fishing Creek | +642 | York County (Unincorporated Areas), City of York.
| At Lincoln Road | +710
Fishing Creek Tributary 1A | At the confluence with Fishing Creek Tributary 1 | +677 | City of York.
| At Ross Cannon Street | +704
Fishing Creek Tributary 1B | At the confluence with Fishing Creek Tributary 1 | +686 | City of York.
| At Hall Street | +705
Fishing Creek Tributary 2 | At the confluence with Fishing Creek | +595 | York County (Unincorporated Areas).
| Approximately 1,640 feet southeast of the intersection of Country Trail Road and Ernest Road | +636
Fishing Creek Tributary 3 | At the confluence with Fishing Creek | +643 | York County (Unincorporated Areas), City of York.
| Approximately 2,890 feet upstream of Alexander Love Hwy East | +693
Fishing Creek Tributary 4 | At the confluence with Fishing Creek | +532 | York County (Unincorporated Areas).
| Approximately 50 feet downstream of Oak Park Road | +546
Fishing Creek Tributary 5 | At the confluence with Fishing Creek | +540 | York County (Unincorporated Areas).
| Approximately 1,985 feet upstream of the confluence of Fishing Creek Tributary 7 | +598
Fishing Creek Tributary 6 | At the confluence with Fishing Creek Tributary 5 | +563 | York County (Unincorporated Areas).
| Approximately 490 feet downstream of Highwood Road | +604
Fishing Creek Tributary 7 | At the confluence with Fishing Creek Tributary 5 | +571 | York County (Unincorporated Areas).
| Approximately 1,255 feet upstream of the confluence with Fishing Creek Tributary 5 | +596
Fishing Creek Tributary 8 | At the confluence with Fishing Creek Tributary 6 | +580 | York County (Unincorporated Areas).
| Approximately 450 feet upstream of Highwood Road | +597
Fishing Creek Tributary 9 | At the confluence with Fishing Creek | +623 | York County (Unincorporated Areas).
| Approximately 790 feet upstream of Trotter Place | +660
Fishing Creek Tributary 10 | At the confluence with Fishing Creek | +614 | York County (Unincorporated Areas), City of York.
| Approximately 50 feet northeast of the end of Cricket Run | +631
Fishing Creek Tributary 11 | At the confluence with Fishing Creek | +554 | York County (Unincorporated Areas).
| Approximately 2,550 feet upstream of Turkey Farm Road | +580
Fishing Creek Tributary 12 | At the confluence with Fishing Creek | +565 | York County (Unincorporated Areas).
| Approximately 2,605 feet upstream of the confluence with Fishing Creek | +575
Fishing Creek Tributary 13 | At the confluence with Fishing Creek | +567 | York County (Unincorporated Areas).
| Approximately 2,780 feet upstream of the confluence with Fishing Creek | +584
Fishing Creek Tributary 14 | At the confluence with Fishing Creek | +569 | York County (Unincorporated Areas).
| Approximately 3,690 feet upstream of the confluence with Fishing Creek | +600
Fishing Creek Tributary 15 | At the confluence with Fishing Creek | +575 | York County (Unincorporated Areas).
| Approximately 1,650 feet upstream of the confluence with Fishing Creek | +594
Fishing Creek Tributary 16 | At the confluence with Fishing Creek Tributary 2 | +617 | York County (Unincorporated Areas).
| Approximately 3,150 feet upstream of the confluence with Fishing Creek Tributary 2 | +675
Gin Branch | At the confluence with Bullock Creek | +598 | York County (Unincorporated Areas).
| Approximately 70 feet downstream of Bush Road | +639
Grist Branch | At the confluence with Big Allison Creek | +610 | York County (Unincorporated Areas).
| Approximately 60 feet downstream of Wood Drive | +625
Guyon Moore Creek | At the confluence with Broad River | +446 | York County (Unincorporated Areas).
| Approximately 7,370 feet upstream of the confluence of Guyon Moore Creek | +597
Guyon Moore Creek Tributary 1 | At the confluence with Guyon Moore Creek | +538 | York County (Unincorporated Areas).
| Approximately 1,980 feet upstream of the confluence Guyon Moore Creek | +558
Haggins Branch | At the confluence with Catawba River | +483 | York County (Unincorporated Areas).
| Approximately 394 feet upstream of Greenwood Road | +557
Hidden Creek | At the confluence with Catawba River | +511 | York County (Unincorporated Areas), City of Rock Hill.
| Just downstream of Riverview Road | +563
Jennings Branch | At the confluence with Clark Creek | +673 | York County (Unincorporated Areas), City of Rock Hill.
| Approximately 4,280 feet upstream of the confluence with Clark Creek | +683
Johnson Branch | At the confluence with Rock Branch | +608 | York County (Unincorporated Areas).
| Approximately 1,440 feet downstream of Lincoln Road | +626
Jones Branch | At the confluence with Dye Branch | +515 | York County (Unincorporated Areas).
| Approximately 280 feet downstream of Harris Road | +582
Kings Creek | At the confluence with Broad River | +493 | York County (Unincorporated Areas).
| Approximately 5,330 feet upstream of River Road | +515
Kirkpatrick Branch | At the confluence with Bullock Creek | +436 | York County (Unincorporated Areas).
| Approximately 1,600 feet downstream of Lockhart Road | +472
Lake Wylie |  | +570 | York County (Unincorporated Areas), City of Tega Cay.
Langham Branch | At the confluence with Fishing Creek | +573 | York County (Unincorporated Areas), City of York.
| Approximately 250 feet downstream of Liberty Street East | +668
Langham Branch Tributary 2 | At the confluence with Langham Branch | +587 | York County (Unincorporated Areas).
| Approximately 1,890 feet upstream of the confluence with Langham Branch | +598
Leroy Branch | At the confluence with Steele Creek | +526 | York County (Unincorporated Areas), Town of Fort Mill.
| Approximately 175 feet upstream of the confluence of Leroy Branch Tributary 1 | +562
Leroy Branch Tributary 1 | At the confluence with Leroy Branch | +561 | Town of Fort Mill.
| Approximately 1,000 feet upstream of the confluence with Leroy Branch | +574
Lindsey Creek | At the confluence with Wright Creek | +496 | York County (Unincorporated Areas).
| Approximately 610 feet upstream of Larchwood Road | +605
Lindsey Creek Tributary 1 | At the confluence with Lindsey Creek | +572 | York County (Unincorporated Areas).
| Approximately 990 feet downstream of Larchwood Road | +600
Little Allison Creek | At the confluence with Lake Wylie | +570 | York County (Unincorporated Areas).
| Approximately 1,990 feet downstream of Charlotte Hwy | +720
Little Allison Creek Tributary 1 | At the confluence of Little Allison Creek | +619 | York County (Unincorporated Areas).
| Approximately 840 feet upstream of Tirzah Road Extension | +652
Little Allison Creek Tributary 2 | At the confluence of Little Allison Creek | +602 | York County (Unincorporated Areas).
| Approximately 50 feet downstream of Harper Road | +621
Little Dutchman Tributary 1A | Just upstream of Ebinport Road | +572 | City of Rock Hill.
| Approximately 205 feet upstream of Roundtree Circle | +587
Little Turkey Creek | At the confluence with Turkey Creek | +420 | York County (Unincorporated Areas).
| Approximately 4,120 feet upstream of Garvin Road | +511
Little Turkey Creek Tributary 1 | At the confluence with Little Turkey Creek | +572 | York County (Unincorporated Areas).
| Approximately 2,790 feet upstream of the confluence with Little Turkey Creek | +600
Love Creek | At the confluence with South Fork Fishing Creek | +534 | York County (Unincorporated Areas), Town of McConnells.
| Approximately 1,690 feet upstream of McConnells Hwy | +617
Love Creek Tributary 1 | At the confluence with Love Creek | +561 | York County (Unincorporated Areas).
| Approximately 100 feet downstream of McConnells Hwy | +617
Loves Creek | At the confluence with Bullock Creek | +436 | York County (Unincorporated Areas), Town of Hickory Grove.
| Just downstream of Smith Street | +620
Loves Creek Tributary 1 | At the confluence with Loves Creek | +510 | York County (Unincorporated Areas).
| Approximately 100 feet upstream of Howells Ferry Road | +552
Loves Creek Tributary 2 | At the confluence with Loves Creek | +493 | York County (Unincorporated Areas).
| Approximately 2,630 feet upstream of Howells Ferry Road | +516
Manchester Creek | Approximately 790 feet downstream of the confluence of Manchester Creek Tributary 1 | +515 | York County (Unincorporated Areas), City of Rock Hill.
| Approximately 1,390 feet upstream of Mt. Gallant Road East | +549
Manchester Creek Tributary 1 | At the confluence with Manchester Creek | +518 | York County (Unincorporated Areas), City of Rock Hill.
| Approximately 2,110 feet upstream of David Lyle Boulevard | +531
Manchester Creek Tributary 1 | Approximately 1,855 feet upstream of Evelyn Street | +548 | York County (Unincorporated Areas), City of Rock Hill.
| Approximately 3,195 feet upstream of Evelyn Street | +561
Manchester Creek Tributary 2 | Approximately 2,260 feet upstream of Poe Street | +609 | York County (Unincorporated Areas), City of Rock Hill.
| Approximately 3,750 feet upstream of Poe Street | +628
Manchester Creek Tributary 3 | Approximately 250 feet downstream of Eastwood Drive | +604 | York County (Unincorporated Areas), City of Rock Hill.
| Approximately 50 feet downstream of Pearl Street | +609
McClures Branch | At the confluence with Little Turkey Creek | +455 | York County (Unincorporated Areas).
| Approximately 4,390 feet upstream of the confluence of McClures Branch Tributary 1 | +545
McClures Branch Tributary 1 | At the confluence of McClures Branch | +509 | York County (Unincorporated Areas).
| Approximately 2,560 feet upstream of the confluence of McClures Branch | +528
Mill Creek | At the confluence with Lake Wylie | +570 | York County (Unincorporated Areas).
| Approximately 410 feet upstream of Riddle Mill Road | +656
Mill Creek Tributary 1 | At the confluence with Mill Creek | +379 | York County (Unincorporated Areas).
| Approximately 1,360 feet downstream of Valley View Drive Road | +593
Mill Creek Tributary 2 | At the confluence with Mill Creek | +595 | York County (Unincorporated Areas).
| Approximately 410 feet northwest of the intersection of Shagbark Land and Pine Lake Road | +631
Mitchell Branch | At the confluence of Bullock Creek | +448 | York County (Unincorporated Areas).
| Approximately 6,370 feet upstream of Sherer Road | +587
Mooneys Hill Branch | At the confluence with Catawba River | +500 | York County (Unincorporated Areas), Town of Fort Mill.
| Approximately 1,045 feet downstream of Spratts Branch | +573
Mooneys Hill Branch Tributary 1 | At the confluence of Mooneys Hill Branch | +500 | York County (Unincorporated Areas).
| Approximately 2,875 feet upstream of the confluence with Mooneys Hill Branch | +537
Morris Branch | At the confluence with Big Allison Creek | +646 | York County (Unincorporated Areas).
| Approximately 3,810 feet upstream of Smith Road | +688
Mud Creek | At the confluence with Broad River | +448 | York County (Unincorporated Areas).
| Approximately 100 feet upstream of Martin Road | +526
Neelys Creek | Approximately 6,330 feet downstream of Pitts Road | +506 | York County (Unincorporated Areas).
| Approximately 180 feet upstream of Hovis Road | +629
Palmer Branch | At the confluence with Rainey Branch | +406 | York County (Unincorporated Areas).
| Approximately 5,120 feet upstream of the confluence with Rainey Branch | +417
Plexico Branch | At the confluence with Bullock Creek | +444 | York County (Unincorporated Areas).
| Approximately 5,620 feet upstream of Hoodtown Road | +513
Rainey Branch | Approximately 2,200 feet downstream of the confluence of Palmer Branch | +392 | York County (Unincorporated Areas).
| Approximately 6,070 feet upstream of the confluence of Rainey Branch Tributary 1 | +485
Rainey Branch Tributary 1 | At the confluence with Rainey Branch | +420 | York County (Unincorporated Areas).
| Approximately 2,040 feet upstream of the confluence with Rainey Branch | +433 |
Rock Branch | At the confluence with Big Allison Creek | +596 | York County (Unincorporated Areas).
| Approximately 300 feet upstream of Lincoln Road | +635 |
Rocky Branch | At the confluence with Bullock Creek | +543 | York County (Unincorporated Areas).
| Approximately 5,030 feet upstream of Turner Road | +686 |
Rocky Branch Tributary 1 | At the confluence with Rocky Branch | +558 | York County (Unincorporated Areas).
| Approximately 3,530 feet upstream of the confluence with Rocky Branch | +601 |
Ross Branch | At the confluence with Turkey Creek | +542 | York County (Unincorporated Areas).
| Approximately 4,460 feet upstream of Longleaf Road | +636 |
Ross Branch Tributary | At the confluence with Ross Branch | +602 | York County (Unincorporated Areas).
| Approximately 8,030 feet upstream of the confluence with Ross Branch | +723 |
Ross Branch Tributary 1 | At the confluence with Ross Branch | +626 | York County (Unincorporated Areas).
| Approximately 3,660 feet upstream of the confluence with Ross Branch | +642 |
Ross Branch Tributary 3 | At the confluence with Ross Branch | +615 | York County (Unincorporated Areas).
| Approximately 2,180 feet upstream of Fleetwood Road | +703 |
Ross Branch Tributary 4 | At the confluence with Ross Branch | +606 | York County (Unincorporated Areas).
| Approximately 720 feet upstream of Sharon Road | +621 |
Rum Branch | Approximately 1,510 feet downstream of Antler Drive | +508 | York County (Unincorporated Areas).
| Approximately 200 feet downstream of Neelys Creek Road | +590 |
Rum Branch Tributary 1 | At the confluence with Rum Branch | +551 | York County (Unincorporated Areas).
| Approximately 1,050 feet southwest of the intersect of Brer Rabbit and Carrie Estates Drive | +597 |
Rum Branch Tributary 2 | At the confluence with Rum Branch Tributary 1 | +551 | York County (Unincorporated Areas).
| Approximately 1,790 feet upstream of the Railroad crossing | +589 |
Silver Creek | At the confluence with Buck Horn Creek | +508 | York County (Unincorporated Areas).
| Approximately 5,140 feet upstream of Sierra Road | +656 |
Six Mile Creek | At the confluence with Catawba River | +478 | York County (Unincorporated Areas).
| Approximately 1,350 feet downstream of George Dunn Road | +494 |
Six Mile Creek Tributary 2 | At the confluence of Six Mile Creek | +481 | York County (Unincorporated Areas).
| Approximately 2,460 feet upstream of the confluence with Six Mile Creek | +487 |
South Fork Crowder Creek | Approximately 3,360 feet downstream of Lloyd Wright Road | +665 | York County (Unincorporated Areas).
| Approximately 720 feet upstream of Battleground Road | +778 |
South Fork Crowder Creek Tributary 1 | At the confluence with South Fork Crowders Creek | +677 | York County (Unincorporated Areas).
| Approximately 2,030 feet upstream of the confluence with South Fork Crowders Creek | +706 |
South Fork Crowder Creek Tributary 2 | At the confluence with South Fork Crowders Creek | +688 | York County (Unincorporated Areas).
| Approximately 410 feet downstream of Whiteside Road | +708 |
South Fork Fishing Creek | Approximately 3,210 feet downstream of the confluence of South Fishing Creek Tributary 1 | +519 | York County (Unincorporated Areas).
| Approximately 1,080 feet upstream of Brattonville Road | +634 |
South Fork Fishing Creek Tributary 1 | At the confluence with South Fork Fishing Creek | +525 | York County (Unincorporated Areas).
| Approximately 4,350 feet upstream of Chappell Road East | +543 |
South Fork Fishing Creek Tributary 2 | At the confluence with South Fork Fishing Creek | +525 | York County (Unincorporated Areas).
| Approximately 4,790 feet upstream of the confluence with South Fork Fishing Creek | +545 |
South Fork Fishing Creek Tributary 3 | At the confluence with South Fork Fishing Creek | +548 | York County (Unincorporated Areas).
| Approximately 2,380 feet upstream of the confluence with South Fork Road | +571 |
South Fork Fishing Creek Tributary 4 | At the confluence with South Fork Fishing Creek | +558 | York County (Unincorporated Areas).
| Approximately 2,450 feet upstream of the confluence with South Fork Fishing Creek | +583 |
South Fork Fishing Creek Tributary 5 | Approximately 3,570 feet downstream of Chappell Road East | +516 | York County (Unincorporated Areas).
| Approximately 2,230 feet downstream of Chappell Road East | +517 |
South Fork Fishing Creek Tributary 6 | Just upstream of Chappell Road East | +513 | York County (Unincorporated Areas).
| Approximately 2,800 feet downstream of Border Road West | +525 |
Stoney Fork | At the confluence of Fishing Creek | +495 | York County (Unincorporated Areas).
| Approximately 5,740 feet upstream of Moore Road | +656 |
Stoney Fork Tributary 1 | At the confluence of Stoney Fork | +501 | York County (Unincorporated Areas).
| Approximately 3,000 feet upstream of Williamson Road | +535 |
Stoney Fork Tributary 2 | At the confluence of Stoney Fork | +523 | York County (Unincorporated Areas).
| Approximately 2,200 feet upstream of Ogden Road | +634 |
Stoney Fork Tributary 3 | At the confluence of Stoney Fork | +551 | York County (Unincorporated Areas).
| Approximately 5,290 feet upstream of the confluence with Stoney Fork | +580 |
Stoney Fork Tributary 4 | At the confluence of Stoney Fork | +563 | York County (Unincorporated Areas).
| Approximately 2,370 feet upstream of Faires Road | +605 |
Sugar Creek | At the confluence with the Catawba River | +487 | York County (Unincorporated Areas).
| At the Railroad Bridge at the York County, SC and Mecklenburg County, NC county line | +538 |
Sugar Creek Tributary 2 | At the confluence with Sugar Creek | +496 | York County (Unincorporated Areas).
| Approximately 770 feet southeast of the intersection of Bobys Bridge Road and Whites Road | +627 |
Susybole Creek | Approximately 3,600 feet downstream of the confluence with Carter Branch | +455 | York County (Unincorporated Areas).
| Approximately 9,180 feet upstream of Burris Road South | +506 |
Taylors Creek | At the confluence with Fishing Creek | +502 | York County (Unincorporated Areas), City of Rock Hill.
| Approximately 335 feet downstream of Firetower Road | +569 |
Taylors Creek Tributary 1 | At the confluence with Taylors Creek | +521 | York County (Unincorporated Areas), City of Rock Hill.
| Approximately 210 feet downstream of Glenarden Avenue | +569 |
Taylors Creek Tributary 2 | At the confluence with Taylors Creek | +535 | York County (Unincorporated Areas), City of Rock Hill.
| Approximately 105 feet downstream of Albright Road | +549 |
Taylors Creek Tributary 3 | At the confluence with Taylors Creek | +548 | York County (Unincorporated Areas).
| Approximately 1,410 feet upstream of Taylors Creek Road | +586 |
Thompson Branch | At the confluence with Bullock Creek | +466 | York County (Unincorporated Areas).
| Approximately 2,190 feet upstream of Walnut Street Extension | +513 |
Thompson Branch Tributary 1 | At the confluence with Thompson Branch | +473 | York County (Unincorporated Areas).
| Approximately 1,130 feet downstream of Sawmill Road | +489 |
Tools Fork Creek | Approximately 750 feet upstream of York Hwy | +583 | York County (Unincorporated Areas).
| Approximately 1,950 feet upstream of Mt. Gallant Road West | +615 |
Tools Fork Creek Tributary | At the confluence with Tools Fork Creek | +581 | York County (Unincorporated Areas).
| Approximately 1,390 feet downstream of Old York Road | +636 |
Tools Fork Creek Tributary 2 | At the confluence with Tools Fork Creek | +597 | York County (Unincorporated Areas).
| Approximately 230 feet downstream of Tirzah Road | +608 |
Tools Fork Creek Tributary 3 | At the confluence with Tools Fork Creek Tributary 1 | +583 | York County (Unincorporated Areas).
| Approximately 155 feet downstream of Pine Grove Court | +599 |
Turkey Creek | Approximately 1,390 feet downstream of the confluence of Blue Branch | +397 | York County (Unincorporated Areas), City of York.
| Approximately 5,410 feet upstream of Springlake Road | +694 |
Turkey Creek Tributary 1 | At the confluence with Turkey Creek | +581 | York County (Unincorporated Areas).
| Approximately 1,075 feet upstream of the confluence with Turkey Creek | +636 |
Turkey Creek Tributary 2 | At the confluence with Turkey Creek | +668 | York County (Unincorporated Areas).
| Approximately 2,845 feet upstream of James Harvey Road | +707
Turkey Creek Tributary 3 | At the confluence with Turkey Creek | +661 | York County (Unincorporated Areas).
| Approximately 475 feet upstream of the confluence with Turkey Creek | +680
Turkey Creek Tributary 4 | At the confluence with Turkey Creek | +653 | York County (Unincorporated Areas).
| Approximately 105 feet upstream of Tanager Drive | +666 |
Turkey Creek Tributary 5 | At the confluence with Turkey Creek | +649 | York County (Unincorporated Areas).
| Approximately 1,005 feet upstream of the confluence with Turkey Creek | +671
Turkey Creek Tributary 6 | At the confluence with Turkey Creek | +617 | York County (Unincorporated Areas).
| Approximately 1,660 feet upstream of the confluence with Turkey Creek | +656
Turkey Creek Tributary 7 | At the confluence with Turkey Creek | +477 | York County (Unincorporated Areas).
| Approximately 5,130 feet upstream of the confluence with Turkey Creek | +572
Turkey Creek Tributary 8 | At the confluence with Turkey Creek | +437 | York County (Unincorporated Areas).
| Approximately 6,360 feet upstream of the confluence with Turkey Creek | +477
Turkey Creek Tributary 9 | At the confluence with Turkey Creek Tributary 8 | +436 | York County (Unincorporated Areas).
| Approximately 1,760 feet upstream of the confluence with Turkey Creek Tributary 8 | +452
Turkey Creek Tributary 10 | At the confluence with Turkey Creek | +427 | York County (Unincorporated Areas).
| Approximately 4,510 feet upstream of Feemster Road | +481
Turkey Creek Tributary 11 | At the confluence with Turkey Creek | +408 | York County (Unincorporated Areas).
| Approximately 9,360 feet upstream of the confluence with Turkey Creek | +447
Turkey Creek Tributary 12 | At the confluence with Turkey Creek | +407 | York County (Unincorporated Areas).
| Approximately 300 feet downstream of Burris Road North | +444
Turkey Creek Tributary 13 | At the confluence with Turkey Creek | +400 | York County (Unincorporated Areas).
| Approximately 6,690 feet upstream of the confluence with Turkey Creek | +443
Turkey Creek Tributary 14 | At the confluence with Turkey Creek | +399 | York County (Unincorporated Areas).
| Approximately 6,450 feet upstream of the confluence with Turkey Creek | +426
Walker Branch | At the confluence with Calabash Branch | +637 | York County (Unincorporated Areas), Town of Clover.
| Approximately 3,530 feet upstream of St. Paul Church Road | +727
Wildcat Creek | At the confluence with Fishing Creek | +520 | York County (Unincorporated Areas), City of Rock Hill.
| Approximately 675 feet downstream of Ogden Road | +532
Wildcat Creek | At McConnells Hwy | +558 | York County (Unincorporated Areas), City of Rock Hill.
| Approximately 890 feet upstream of Heckle Boulevard | +680
Wildcat Creek Tributary I | At the confluence with Wildcat Creek | +544 | York County (Unincorporated Areas, City of Rock Hill.
| Approximately 330 feet downstream of the confluence with Wildcat Creek Tributary 1A | +574
Wildcat Creek Tributary 1-A | At the confluence with Wildcat Creek Tributary 1 | +575 | York County (Unincorporated Areas), City of Rock Hill.
| Approximately 75 feet downstream of Finley Road | +590
Wildcat Creek Tributary 2 | At the confluence with Wildcat Creek | +549 | York County (Unincorporated Areas), City of Rock Hill.
| Approximately 1,495 feet downstream of McConnells Hwy | +556
Wildcat Creek Tributary 3 | At the confluence with Wildcat Creek | +547 | York County (Unincorporated Areas).
| Approximately 355 feet upstream of Reese Roach Road | +593
Wildcat Creek Tributary 4 | At the confluence with Wildcat Creek | +558 | York County (Unincorporated Areas), City of Rock Hill.
| Approximately 560 feet downstream of Herlong Avenue South | +606
Wildcat Creek Tributary 5 | At the confluence with Wildcat Creek | +577 | York County (Unincorporated Areas).
| Approximately 510 feet upstream of Hollis Lakes Road | +632
Wolf Creek | At the confluence with Kings Creek | +456 | City of Rock Hill.
| At the Cherokee/York County Boundary | +640
Wright Creek | At the confluence with Little Turkey Creek | +496 | York County (Unincorporated Areas).
| Approximately 680 feet upstream of the confluence with Lindsay Creek | +558
# Depth in feet above ground.
* National Geodetic Vertical Datum.
+ National American Vertical Datum.
ADDRESSES
Unincorporated Areas of York County
Maps are available for inspection at 6 South Congress Street, York, SC 29745.
Catawba Indian Nation
Maps are available for inspection at 996 Avenue of the Nation, Rock Hill, SC 29730.
Town of Clover
Maps are available for inspection at 114 Bethel Street, Clover, SC 29710-0181.
Town of Fort Mill
Maps are available for inspection at 112 Confederate Street, Fort Mill, SC 29715-0159.
Town of Hickory Grove
Maps are available for inspection at 6001 Wylie Avenue, Hickory Grove, SC 29717-0126.
Town of McConnells
Maps are available for inspection at 4178 Chester HIghway, McConnells, SC 29726-0115.
City of Rock Hill
Maps are available for inspection at 155 Johnson Street, Rock Hill, SC 29731-1706.
City of Tega Cay
Maps are available for inspection at 7000 Tega Cay Drive, Tega Cay, SC 29708-3399.
City of York
Maps are available for inspection at 10 North Roosevelt Street, York, SC 29745-0500.
Bell County, Texas and Incorporated Areas
Docket No.: FEMA-B-7709
Acorn Creek | Approximately 300 feet upstream from confluence with Trimmier Creek | +678 | City of Killeen.
| Approximately 1.33 miles from Stagecoach Road | +807
Caprice Ditch (Formerly Site Tributary 7) | Confluence with Nolan Creek | +740 | City of Harker Heights, City of Killeen, Bell County (Unincorporated Areas).
| Intersection with Schwald Road | +854
Chaparral Creek | Approximately 300 feet upstream from the confluence with Trimmier Creek | +727 | City of Killeen, Bell County (Unincorporated Areas).
| Approximately 960 feet upstream from Chaparral Road | +839
Edgefield Creek | Approximately 936 feet upstream from the confluence with South Nolan Creek | +912 | City of Killeen.
| Approximately 700 feet upstream from Edgefield Street | +944
Embers Creek | Confluence with Trimmier Creek | +774 | City of Killeen.
| Approximately 2,060 feet upstream from Stagecoach Road | +807
Fryers Creek | Approximately 100 feet upstream from Waters Dairy Road | +590 | City of Temple.
| Approximately 500 feet downstream from State Highway 363 | +622
Harker Heights Tributary 4 | Confluence with Nolan Creek | +746 | City of Herker Heights, City of Killeen.
| Approximately 300 feet upstream from Stillwood Drive | +773
Hilliard Creek | Confluence with Long Branch Ditch | +801 | City of Killeen.
| Approximately 440 feet upstream from Transverse Drive | +839
Hilliard Tributary 1 | Confluence with Hilliard Creek | +830 | City of Killeen.
| Approximately 1,300 feet upstream from confluence with Hilliard Creek | +845
Hog Pen Creek | Approximately 1,000 feet upstream from Poison Oak Road | +547 | City of Temple.
| Approximately 1,150 feet upstream from FM2305 | +619
Hog Pen Creek Tributary 1 | Confluence with Hog Pen Creek | +575 | City of Temple.
| Approximately 1,500 feet upstream from the confluence with Hog Pen Creek | +592
Hog Pen Creek Tributary 2 | Confluence with Hog Pen Creek | +561 | City of Temple.
| Approximately 1,000 feet upstream from Tarver Drive | +596 |
Liberty Ditch (Formerly Nolan Creek Tributary 3) | Confluence with Nolan Creek | +783 | City of Killeen.
| Approximately 740 feet upstream from Poage Avenue | +845 |
Little Nolan Creek | Confluence with Nolan Creek | +751 | City of Killeen.
| West Trimmier Drive | +908 |
Long Branch Ditch (Formerly Long Branch) | Confluence with Nolan Creek | +765 | City of Killeen.
| County Boundary | +827 |
North Reese Creek | Approximately 625 feet downstream from Reese Creek Highway | +873 | City of Killeen, Bell Conty (Unicorporated Areas).
| Approximately 4,125 feet upstream from Laura Drive | +939 |
North Reese Creek Tributary 1 | Approximately 400 feet downstream from Maxdale Street | +885 | City of Killeen, Bell County (Unincorporated Areas).
| Aproximately 920 feet upstream from Bunny Trail | +953 |
North Reese Creek Tributary 1A | Approximately 178 feet upstream from confluence with North Reese Creek Tributary 1 | +944 | Bell County (Unincorporated Areas).
| Approximately 1,638 feet upstream from the confluence with North Reese Creek Tributary 1 | +965 |
North Reese Creek Tributary 3 | Approximately 1,630 feet upstream from confluence with North Reese Creek | +867 | City of Killeen, Bell County (Unincorporated Areas).
| Approximately 2,700 feet upstream from Stagecoach Road | +916 |
North Reese Creek Tributary 4 | Approximately 960 feet upstream from confluence with North Reese Creek | +877 | Ciy of Killeen.
| Approximately 1,620 feet upstream from confluence with North Reese Creek | +890 |
Old Florence Ditch (Formerly Little Nolan Creek Tributary 2) | Confluence with Little Nolan Creek | +825 | City of Killeen.
| Approximately 220 feet upstream from Trimmier Road | +897 |
Rainforest Creek | Approximately 515 feet upstream from confluence with South Nolan Creek | +901 | City of Killeen.
| Approximately 1,740 feet upstream from Waterfall Road | +935
Robinette Creek | Approximately 324 feet upstream from confluence with South Nolan Creek | +935 | City of Killeen.
| Approximately 920 feet upstream from Robinette Road | +949 |
Rock Creek | Approximately 3,000 feet downstream from Chaparral Road | +824 | City of Killeen, Bell County (Unincorporated Areas).
| Approximately 3,500 feet upstream from Chaparral Road | +877 |
Rock Creek Tributary 1 | Approximately 268 feet upstream from confluence with Rock Creek | +827 | City of Killeen, Bell County (Unincorporated Areas).
| Approximately 1,740 feet upstream from Chaparral Road | +862 |
Rock Creek Tributary 1A | Approximately 450 feet upstream from confluence with Rock Creek Tributary 1 | +835 | Bell County (Unincorporated Areas).
| Approximately 1,140 feet upstream from dam | +856 |
South Nolan Creek | Approximately 2,550 feet downstream from Watercrest Road | +903 | City of Killeen.
| Approximately 2,340 feet upstream from Stan Schlueter Road | +981 |
Steward Ditch (Formerly Nolan Creek Tributary 4) | Confluence with Nolan Creek | +803 | City of Killeen.
| Approximately 1,360 feet upstream from Duncan Ave | +852 |
Trimmier Creek | Approximately 630 feet downstream from confluence with Acorn Creek | +686 | City of Killeen.
| Approximately 2,900 feet upstream from Stagecoach Road | +834 |
Trimmier Road Ditch (Formerly Little Nolan Creek Tributary 1) | Confluence with Little Nolan Creek | +800 | City of Killeen.
| Approximately 2,400 feet upstream from Old FM 440 | +965 |
Yowell Creek | Approximately 5,180 feet upstream from confluence with Chaparral Creek | +763 | City of Killeen.
| Approximately 1,250 feet upstream from Featherline Road | +878 |
Yowell Creek Tributary | Confluence with Yowell Creek | +788 | City of Killeen.
| Approximately 1,250 feet upstream from Featherline Road | +863 |
* National Geodetic Vertical Datum.
# Depth in feet above ground.
+ North American Vertical Datum.
ADDRESSES
City of Harker Heights
Maps are available for inspection at City Hall, 305 Miller's Crossing, Harker Heights, TX 76548.
City of Killeen
Maps are available for inspection at City Hall, 101 North College Street, Killeen, TX 76540.
City of Temple
Maps are available for inspection at City Hall, 2 North Main Street, Temple, TX 76501.
Bell County (Unincorporated Areas)
Maps are available for inspection at Bell County Courthouse, 101 E. Central Ave., Belton, TX 76513.
Rockwall County, Texas and Incorporated Areas
Docket No: FEMA-B-7704
Berry Creek | Approximately 3,000 feet downstream from State Highway 205 | +487 | City of Mclendon-Chisholm.
| Approximately 1,250 feet upstream from the confluence with Berry Creek Tributary 1 | +499 |
Bois d'Arc | Confluence with Sabine Creek | +527 | City of Royse City.
| Intersection with Highway 66 (County Boundary) | +535 |
Brushy Creek | Approximately 200 feet downstream from Klutts Drive | +485 | City of Mclendon-Chisholm.
| Approximately 4,200 feet upstream from Highway 276 (WS SCS Site 1a Dam Spillway) | +565 | City of Rockwall.
Buffalo Creek | Approximately 2,000 feet downstream from King Street (County Boundary) | +432 | City of Heath.
| Approximately 1,500 feet upstream from T.L. Townsend Drive | +541 | City of Rockwall.
Buffalo Creek Tributary 1 | Approximately 1,000 feet upstream from Highway 276 | +531 | City of Rockwall.
| At railroad tracks | +564 |
Buffalo Creek Tributary 1.1 | Confluence with Buffalo Creek Tributary 1 | +548 | City of Rockwall.
| Intersection with Alpha Drive | +553 |
Buffalo Creek Tributary 1.2 | Confluence with Buffalo Creek Tributary I | +551 | City of Rockwall.
| Intersection with Industrial Blvd | +558 |
Camp Creek | Approximately 150 feet downstream from the confluence with Camp Creek Tributary 1 | +432 | City of Fate, Rockwall County (Unincorporated Areas).
| Approximately 1,500 feet downstream from Riding Club Road | +565 |
Camp Creek Tributary 1 | Confluence with Camp Creek | +514 | City of Fate, Rockwall County (Unincorporated Areas).
| Approximately 3,000 feet upstream from WS SCS Site 3f Dam | +514 | City of Fate, Rockwall County (Unincorporated Areas).
Lake Ray Hubbard | Lake Ray Hubbard | +437 | City of Heath, City of Rockwall, Rockwall County (Unincorporated Areas).
Long Branch | Approximately 300 feet downstream from the confluence with Long Branch Tributary 15 | +439 | City of Heath.
| Approximately 1,000 feet upstream from McDonald Road | +457 | City of Mclendon-Chisholm.
Parker Creek | Approximately 250 feet upstream from the confluence with Klutts Branch | +498 | City of Fate, City of Royse City, Unincorporated Areas of Rockwall County.
| Approximately 2,000 feet downstream from the confluence with Parker Creek Tributary 10 | +559
Parker Creek Tributary 1 | Confluence with Parker Creek | +528 | City of Fate.
| Approximately 1,000 feet upstream from Highway 66 | +577 | City of Royse City.
Parker Creek Tributary 2 | Confluence with Parker Creek Tributary 1 | +551 | City of Fate.
| Approximately 1,500 feet upstream from Highway 66 | +580
Pond Branch | Approximately 3,500 feet upstream from the confluence with Sabine Creek | +517 | City of Royse City.
| Approximately 100 feet upstream from Church Street | +536
Rush Creek | Approximately 750 feet upstream from Hubbard Drive | +437 | City of Heath.
| Approximately 500 feet upstream from FM 740 Road | +507
Sabine Creek | Confluence with Pond Creek | +514 | City of Royse City.
| County Line Road | +528
Squabble Creek | Golf Course Dam 1 | +439 | City of Rockwall.
| Approximately 2,000 feet upstream from Highway 205 | +473
Yankee Creek | Approximately 1,750 feet downstream from Terry Lane | +441 | City of Heath.
| Approximately 1,250 feet downstream from the confluence with Yankee Creek Tributary 1 | +496
* National Geodetic Vertical Datum. | + North American Vertical Datum. | # Depth in feet above ground.
ADDRESSES
City of Fate
Maps are available for inspection at 105 Fate Main Place, Fate, TX 75132.
City of Heath
Maps are available for inspection at Heath City Hall, 200 Laurence Drive, Heath, TX 75032.
City of Mclendon-Chisholm
Maps are available for inspection at 1248 South Hwy 205, Rockwall, TX 75032.
City of Rockwall
Maps are available for inspection at City Hall, 205 East Rusk, Rockwall, TX 75087.
City of Royse City
Maps are available for inspection at City Hall, 205 East Rusk, Rockwall, TX 75087.
Rockwall County (Unincorporated Areas)
Maps are available for inspection at Rockwall Government Building, 1101 Ridge Road, Rockwall, TX 75087.
Smith County, Texas, and Incorporated Areas
Docket No.: FEMA-B-7720
Blackhawk Creek | Approximately 2,000 feet downstream of intersection with Blackjack Rd | +332 | City of Whitehouse (Smith County) Unincorporated Areas.
| Approximately 1,750 feet upstream of intersection with FM 346 E | +483
Blackhawk Creek Tributary 1 | Confluence with Blackhawk Creek | +383 | City of Whitehouse.
| Approximately 250 feet upstream of Hagan Rd intersection | +419
Blackhawk Creek Tributary 2 | Confluence with Blackhawk Creek | +418 | City of Whitehouse.
| Approximately 2,000 feet upstream of intersection with CR 2319 | +460
Hill Creek | Approximately 3,500 feet from intersection with Troup Highway | +379 | City of Whitehouse (Smith County) Unincorporated Areas.
| Approximately 2,500 feet downstream of intersection with Bascom Rd | +465
Horsepen Branch | Approximately 8,000 feet downstream of confluence with Kickapoo Creek | +392 | City of Troup.
| Approximately 1,100 feet downstream of confluence with Kickapoo Creek | +411
Mud Creek | Approximately 7,000 feet downstream from intersection with Old Tyler Rd. (County Line) | +315 | (Smith County) Unincorporated Areas.
| Approximately 140 feet upstream from intersection with Troup Highway | +333
Prairie Creek South | Approximately 1,750 feet downstream of intersection with Old Omen Rd | +382 | (Smith County) Unincorporated Areas.
| 1,750 feet upstream of intersection with Henderson Hwy. | +422 | New Chapel Hill.
Prairie Creek Tributary 1 | Confluence with Prairie Creek South | +391 | (Smith County) Unincorporated Areas.
| 1,500 feet upstream from Dam | +451
* National Geodetic Vertical Datum. | + North American Vertical Datum. | # Depth in feet above ground.
ADDRESSES
City of Troup
Maps are available for inspection at 100 N. Broadway, Tyler, TX 75702.
City of Whitehouse
Maps are available for inspection at 100 N. Broadway, Tyler, TX 75702.
New Chapel Hill
Maps are available for inspection at 100 N. Broadway, Tyler, TX 75702.
Unincorporated Areas of Smith County
Maps are available for inspection at 100 N. Broadway, Tyler, TX 75702.
Milwaukee County, Wisconsin, and Incorporated Areas
Docket No.: FEMA-B-7707
Caledonia Branch | Confluence with Crayfish Creek | *666 | City of Oak Creek.
| Downstream side of County Line Road | *672
Caledonia Branch Tributary CB1 | Confluence with Caledonia Branch | *667 | City of Oak Creek.
| Approximately 0.6 miles upstream of Elm Road | *687
Caledonia Branch Tributary CB2 | Confluence with Caledonia Branch | *670 | City of Oak Creek.
| Upstream side of 10th Avenue | *672
Caledonia Branch Tributary CB3 | Upstream side of County Line Road | *676 | City of Oak Creek.
| Approximately 160 feet upstream of State Highway 32 | *688
Crayfish Creek | Upstream side of County Line Road | *666 | City of Oak Creek.
| Downstream side of Oakwood Road | *668
Crayfish Creek Tributary C1 | Confluence with West Branch Crayfish Creek | *668 | City of Oak Creek.
| Approximately 800 feet upstream of Shepard Avenue | *688
Crayfish Creek Tributary C2 | Confluence with West Branch Crayfish Creek | *670 | City of Oak Creek.
| Approximately 1,500 feet upstream of Shepard Avenue | *701
Crayfish Creek Tributary C3 | Confluence with Crayfish Creek | *668 | City of Oak Creek.
| Approximately 0.9 miles from Oakwood Road | *677
Crayfish Creek Tributary C3A | Confluence with Crayfish Creek Tributary C3 | *669 | City of Oak Creek.
| Approximately 0.5 miles upstream of Confluence with Crayfish Creek Tributary C3 | *672
Lake Michigan Tributary L1 | Approximately 380 feet upstream of mouth to Lake Michigan | *643 | City of Oak Creek.
| Approximately 0.4 miles upstream of 5th Avenue | *677
Lake Michigan Tributary L5 | Approximately 510 feet upstream of mouth to Lake Michigan | *654 | City of Oak Creek.
| Approximately 0.4 miles upstream of mouth to Lake Michigan | *691
Legend Creek | Confluence with the Root River | *695 | City of Franklin.
| Upstream side of U.S. Highway 45 | *800
Lincoln Creek | Confluence with the Milwaukee River | *624 | City of Glendale, City of Milwaukee.
| Upstream side of Teutonia Avenue | *628
| Upstream of Mill Road | *687
| Upstream of Good Hope Road | *692
Menomonee River | 240 feet upstream of Canal Street | *589 | City of Milwaukee, City of Wauwatosa.
| Upstream side of South 35th Street | *598
| Upstream side of Chicago & Northwestern Railroad | *608
| Upstream side of U.S. Highway 41 | *624
| Upstream side of Harwood Avenue Pedestrian Bridge | *658
Milwaukee River | Upstream side of Cherry Street | *584 | City of Milwaukee, Village of Brown Deer, Village of River Hills, Village of Shorewood.
| Downstream side of North Avenue | *597
| Upstream side of Capitol Drive | *605
| Upstream side of Good Hope Road | *640
Mitchell Field Drainage Ditch | Confluence with Oak Creek | *660 | City of Milwaukee, City of Oak Creek.
| Approximately 0.5 miles upstream of Howell Avenue | *711
Mitchell Field Drainage Ditch Tributary M1 | Confluence with Mitchell Field Drainage Ditch | *672 | City of Oak Creek.
| Approximately 0.5 miles upstream of Howell Avenue | *713
Mitchell Field Drainage Ditch Tributary M4 | Confluence with Mitchell Field Drainage Ditch | *666 | City of Oak Creek.
| Approximately 0.4 miles upstream of confluence with Mitchell Field Drainage Ditch | *683
North Branch Oak Creek | Confluence with Oak Creek | *682 | City of Milwaukee, City of Oak Creek.
| Downstream side of Marquette Avenue | *713
| Approximately 630 feet upstream of Interstate 94 | *742
North Branch Oak Creek Tributary N2 | Confluence with North Branch Oak Creek | *710 | City of Milwaukee, City of Oak Creek.
| Approximately 125 feet upstream of 16th Street | *743
North Branch Oak Creek Tributary N4 | Confluence with North Branch Oak Creek | *716 | City of Oak Creek.
| Downstream side of Interstate 94 | *728
North Branch Oak Creek Tributary N5 | Confluence with North Branch Oak Creek | *710 | City of Oak Creek.
| Approximately 0.9 miles upstream of Interstate 94 | *757
North Branch Oak Creek Tributary N7 | Confluence with North Branch Oak Creek | *704 | City of Oak Creek.
| Approximately 0.4 miles upstream of 20th Street-Drexel Avenue | *721
North Branch Oak Creek Tributary N7A | Confluence with North Branch Oak Creek Tributary N7 | *713 | City of Oak Creek.
| Approximately 590 feet upstream of 20th Street | *735
Oak Creek | Upstream side of 2nd Oak Creek Parkway Crossing | *603 | City of Franklin, City of Oak Creek.
| Upstream side of Southland Drive | *735
| Approximately 1,360 feet upstream of Puetz Road | *753
Oak Creek Tributary O16 | Upstream side of Pennsylvania Avenue | *666 | City of Oak Creek.
| Approximately 0.5 miles upstream of Forest Lane | *681
Oak Creek Tributary O17 | Upstream side of Pennsylvania Avenue | *663 | *City of Oak Creek.
| Approximately 0.9 miles upstream of Pennsylvania Avenue | *676
Oak Creek Tributary O19 | Confluence with Oak Creek Tributary O19A | *664 | City of Oak Creek.
| Approximately 0.6 miles upstream of confluence with Oak Creek Tributary O19A | *684
Oak Creek Tributary O19A | Confluence with Oak Creek | *663 | City of Oak Creek.
| Approximately 1,500 feet upstream of Puetz Road | *673
Oak Creek Tributary O20 | Confluence with Oak Creek | 661 | *City of Oak Creek.
| Approximately 0.5 miles upstream of confluence with Oak Creek | *674
Oak Creek Tributary O8 | Confluence with Oak Creek | *674 | City of Oak Creek.
| Downstream side of State Highway 38 | *689
Root River | 500 feet downstream of Nicholson Road | *666 | City of Oak Creek.
| Upstream side of Interstate 94 | *676
Root River Tributary R2 | Approximately 1.2 miles upstream of confluence with the Root River | *672 | City of Oak Creek.
| Approximately 0.4 miles upstream of Oakwood Avenue | *691
Root River Tributary R3 | Confluence with Root River Tributary R2 | *691 | City of Oak Creek.
| Approximately 185 feet upstream of 13th Street | *698
Root River Tributary R5 | Confluence with the Root River | *668 | City of Oak Creek.
| Downstream side of Elms Road | *696
South Branch Underwood Creek | At Waukesha County Boundary | *723 | City of Wauwatosa, City of West Allis.
| Downstream side of Bradley Road | *729
Southbranch Creek | Upstream side of Green Bay Court | *651 | City of Milwaukee, Village of Brown Deer.
| Downstream side of Bradley Road | *683
Southland Creek | Confluence with North Branch Oak Creek | *694 | City of Oak Creek.
| Approximately 125 feet upstream of 27th Street | *736
Underwood Creek | Confluence with the Menomonee River 1,120 feet upstream of 115th Street | *678 | City of Wauwatosa.
|  | *718
Unnamed Tributary No. 1 to Oak Creek | Confluence with Oak Creek | *737 | City of Franklin.
| Approximately 60 feet upstream of Puetz Road | *755
Unmaned Tributary No. 1 to Southland Creek | Confluence with Southland Creek | *702 | City of Oak Creek.
| Approximately 60 feet upstream of Puetz Road | *725
* National Geodetic Vertical Datum.
+ North American Vertical Datum.
# Depth in feet above ground.
ADDRESSES
City of Franklin
Maps are available for inspection at 9229 W Loomis Road, Franklin, WI.
City of Glendale
Maps are available for inspection at 5909 N Milwaukee River Parkway, Glendale, WI.
City of Milwaukee
Maps are available for inspection at 200 E Wells Street, Milwaukee, WI.
City of Oak Creek
Maps are available for inspection at 8640 S Howell Avenue, Oak Creek, WI.
City of South Milwaukee
Maps are available for inspection at 2424 15th Avenue, South Milwaukee, WI.
City of Wauwatosa
Maps are available for inspection at 7725 W North Avenue, Wauwatosa, WI.
City of West Allis
Maps are available for inspection at 7525 W Greenfield Avenue, West Allis, WI.
Village of Brown Deer
Maps are available for inspection at 4800 W Green Brook Drive, Brown Deer, WI.
Village of River Hills
Maps are available for inspection at 7650 N Pheasant Lane, River Hills, WI.
Village of Shorewood
Maps are available for inspection at 3930 N Murray Avenue, Shorewood, WI.

(Catalog of Federal Domestic Assistance No. 97.022, “Flood Insurance.”)

Dated: April 8, 2008.
David I. Maurstad,
Federal Insurance Administrator of the National Flood Insurance Program, Department of Homeland Security, Federal Emergency Management Agency.

[FR Doc. E8-8310 Filed 4-16-08; 8:45 am]

BILLING CODE 9110-12-P